NUCLEAR REGULATORY COMMISSION

[NRC-2017-0041]

Preparation of Environmental Reports for Nuclear Power Stations

AGENCY: Nuclear Regulatory Commission.

ACTION: Draft regulatory guide; request for comment.

SUMMARY: The U.S. Nuclear Regulatory Commission (NRC) is issuing for public comment draft regulatory guide (DG), DG-4026, “Preparation of Environmental Reports for Nuclear Power Stations.” This proposed guide, revision 3, provides general guidance to applicants for the format and content of environmental reports (ERs) that are submitted as part of an application for a permit, license, or other authorization to site, construct, and/or operate a nuclear power plant.

DATES: Submit comments by April 14, 2017. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2017-0041. Address questions about NRC dockets to Carol Gallagher; telephone: 301-415-3462; email: Carol.Gallagher@nrc.gov. For technical questions, contact the individuals listed in the FOR FURTHER INFORMATION CONTACT section of this document.

• Mail comments to: Cindy Bladey, Office of Administration, Mail Stop: OWFN 12H08, U.S. Nuclear Regulatory Commission, Washington, DC 20555-0001.

For additional direction on accessing information and submitting comments, see “Obtaining Information and Submitting Comments” in the SUPPLEMENTARY INFORMATION section of this document.

FOR FURTHER INFORMATION CONTACT: Jennifer Davis, Office of New Reactors, telephone: 301-415-3835, email: Jennifer.Davis@nrc.gov, and Edward O'Donnell, Office of Nuclear Regulatory Research, telephone: 301-415-3317, email: Edward.ODonnell@nrc.gov. Both are staff members of the U.S. Nuclear Regulatory Commission, Washington, DC 20555-0001.

SUPPLEMENTARY INFORMATION:

I. Obtaining Information and Submitting Comments

A. Obtaining Information

Please refer to Docket ID NRC-2017-0041 when contacting the NRC about the availability of information regarding this document. You may obtain publicly-available information related to this document, by any of the following methods:

• Federal Rulemaking Web site: Go to http://www.regulations.gov and search for Docket ID NRC-2017-0041.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The DG-4026 is available in ADAMS under Accession No. ML16116A068.

• NRC's PDR: You may examine and purchase copies of public documents at the NRC's PDR, Room O1-F21, One White Flint North, 11555 Rockville Pike, Rockville, Maryland 20852.

B. Submitting Comments

Please include Docket ID NRC-2017-0041 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific problems or postulated events, and data that the staff needs in its review of applications for permits and licenses. The DG, entitled, “Preparation of Environmental Reports for Nuclear Power Stations,” is a proposed revision, temporarily identified by its task number, DG-4026. Regulatory Guide 4.2, Revision 2 dates to 1976, and an update is needed to align it with NRC's regulations, interim NRC's guidance, changes in environmental statutes and regulations, and Executive Orders. Consequently, Revision 3 has been prepared to provide general guidelines for the preparation of ERs supporting an application for a permit, license, or other authorization to site, construct, and/or operate a nuclear power plant. The information requested from applicants in this RG is based on the requirements contained in part 51 of title 10 of the Code of Federal Regulations (10 CFR), “Environmental Protection Regulations for Domestic Licensing and Related Regulatory Functions,” and staff guidance such as NUREG-1555, “Environmental Standard Review Plan: Standard Review Plans for Environmental Reviews for Nuclear Power Plants” (ADAMS Accession Nos. ML003702134 and ML003701937, respectively).

III. Specific Request for Comments

The NRC seeks comments on DG-4026, the associated regulatory analysis, and requests feedback from commenters about (1) addressing the impacts of preconstruction and construction as defined in §§ 51.4 and 51.45, (2) reducing the size of environmental documents, and (3) other topics to consider in environmental reviews.

1. Under the revised rule defining construction (72 FR 57415, October 9, 2007), the applicant should separate the impacts of preconstruction and construction activities to address the latter, as they are the activities being authorized by the NRC. The applicant should also describe the impacts of the preconstruction activities, so they can be evaluated as part of the cumulative impacts related to the construction activities. The revised RG follows the approach to implementing the rule that is discussed in interim staff guidance COL/ESP-ISG-4 (ADAMS Accession No. ML082970729). The NRC is seeking input regarding the best method to address these impacts in environmental reports.

2. Are there changes that should be made to the RG to reduce the amount of information evaluated in ERs and the environmental impact statements, while still meeting applicable environmental laws and regulations?

3. Are there topics that are not addressed in the RG that should be addressed? Conversely, are there topics addressed in the RG that need not be addressed?

IV. Backfitting and Issue Finality

Issuance of this DG does not constitute backfitting as defined in 10 CFR 50.109 (the Backfit Rule), nor would it be regarded as backfitting under the Commission and the Executive Director for Operations guidance, and is not otherwise inconsistent with the issue finality provisions in 10 CFR part 52.

Dated at Rockville, Maryland, this 8th day of February, 2017.
For the Nuclear Regulatory Commission.
Thomas H. Boyce,
Chief, Regulatory Guidance and Generic Issues Branch, Division of Engineering, Office of Nuclear Regulatory Research.

[FR Doc. 2017-02885 Filed 2-10-17; 8:45 am]

BILLING CODE 7590-01-P